DEPARTMENT OF DEFENSE

Office of the Secretary

Revised Non-Foreign Overseas Per Diem Rates

AGENCY: Defense Human Resources Activity, Department of Defense (DoD).

ACTION: Notice of revised per diem rates in non-foreign areas outside the continental U.S.

SUMMARY: Defense Human Resources Activity (DHRA) publishes this Civilian Personnel Per Diem Bulletin Number 319. Bulletin Number 319 lists current per diem rates prescribed for reimbursement of subsistence expenses while on official Government travel to Alaska, Hawaii, the Commonwealth of Puerto Rico, and the possessions of the United States. The Fiscal Year (FY) 2022 lodging rate review resulted in a seasonal rate change for the Isle of Oahu, Hawaii. All other rates remain the same.

DATES: The updated rates take effect December 17, 2021.

FOR FURTHER INFORMATION CONTACT: Ms. Shelly Greendyk, 571-372-1249, shelly.l.greendyk.civ@mail.mil.

SUPPLEMENTARY INFORMATION: This document notifies the public of revisions in per diem rates prescribed by the Per Diem, Travel and Transportation Allowance Committee for travel to non-foreign areas outside the continental United States. The Fiscal Year 2022 lodging rate review resulted in a seasonal rate change for the Isle of Oahu, Hawaii. All other rates remain the same. Bulletin Number 319 is published in the Federal Register to ensure that Government travelers outside the Department of Defense are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.defensetravel.dod.mil/site/faqraterev.cfm.

Dated: December 13, 2021.
Patricia L. Toppings,
OSD Federal Register Liaison Officer, Department of Defense.

State or territory | Locality | Season start | Season end | Lodging | M&IE | Total per diem | Effective date
ALASKA | [OTHER] | 01/01 | 12/31 | 171 | 113 | 284 | 10/01/2021
ALASKA | ADAK | 01/01 | 12/31 | 171 | 113 | 284 | 10/01/2021
ALASKA | ANCHORAGE | 01/01 | 12/31 | 229 | 125 | 354 | 10/01/2021
ALASKA | BARROW | 06/01 | 08/31 | 326 | 129 | 455 | 10/01/2021
ALASKA | BARROW | 09/01 | 05/31 | 252 | 129 | 381 | 10/01/2021
ALASKA | BARTER ISLAND LRRS | 01/01 | 12/31 | 171 | 113 | 284 | 10/01/2021
ALASKA | BETHEL | 01/01 | 12/31 | 219 | 101 | 320 | 10/01/2021
ALASKA | BETTLES | 01/01 | 12/31 | 171 | 113 | * 284 | 10/01/2021
ALASKA | CAPE LISBURNE LRRS | 01/01 | 12/31 | 171 | 113 | 284 | 10/01/2021
ALASKA | CAPE NEWENHAM LRRS | 01/01 | 12/31 | 171 | 113 | 284 | 10/01/2021
ALASKA | CAPE ROMANZOF LRRS | 01/01 | 12/31 | 171 | 113 | 284 | 10/01/2021
ALASKA | CLEAR AB | 01/01 | 12/31 | 171 | 113 | 284 | 10/01/2021
ALASKA | COLD BAY | 01/01 | 12/31 | 171 | 113 | 284 | 10/01/2021
ALASKA | COLD BAY LRRS | 01/01 | 12/31 | 171 | 113 | 284 | 10/01/2021
ALASKA | COLDFOOT | 01/01 | 12/31 | 219 | 93 | 312 | 10/01/2021
ALASKA | COPPER CENTER | 01/01 | 12/31 | 171 | 115 | 286 | 10/01/2021
ALASKA | CORDOVA | 03/01 | 10/31 | 174 | 106 | 280 | 10/01/2021
ALASKA | CORDOVA | 11/01 | 02/28 | 150 | 106 | 256 | 10/01/2021
ALASKA | CRAIG | 05/01 | 09/30 | 139 | 94 | 233 | 10/01/2021
ALASKA | CRAIG | 10/01 | 04/30 | 109 | 94 | 203 | 10/01/2021
ALASKA | DEADHORSE | 01/01 | 12/31 | 171 | 113 | * 284 | 10/01/2021
ALASKA | DELTA JUNCTION | 01/01 | 12/31 | 171 | 101 | 272 | 10/01/2021
ALASKA | DENALI NATIONAL PARK | 05/01 | 10/14 | 164 | 98 | 262 | 10/01/2021
ALASKA | DENALI NATIONAL PARK | 10/15 | 04/30 | 99 | 98 | 197 | 10/01/2021
ALASKA | DILLINGHAM | 05/01 | 09/30 | 320 | 113 | 433 | 10/01/2021
ALASKA | DILLINGHAM | 10/01 | 04/30 | 298 | 113 | 411 | 10/01/2021
ALASKA | DUTCH HARBOR-UNALASKA | 01/01 | 12/31 | 171 | 129 | 300 | 10/01/2021
ALASKA | EARECKSON AIR STATION | 01/01 | 12/31 | 146 | 74 | 220 | 10/01/2021
ALASKA | EIELSON AFB | 05/16 | 09/30 | 154 | 100 | 254 | 10/01/2021
ALASKA | EIELSON AFB | 10/01 | 05/15 | 79 | 100 | 179 | 10/01/2021
ALASKA | ELFIN COVE | 01/01 | 12/31 | 171 | 113 | 284 | 10/01/2021
ALASKA | ELMENDORF AFB | 01/01 | 12/31 | 229 | 125 | 354 | 10/01/2021
ALASKA | FAIRBANKS | 05/16 | 09/30 | 154 | 100 | 254 | 10/01/2021
ALASKA | FAIRBANKS | 10/01 | 05/15 | 79 | 100 | 179 | 10/01/2021
ALASKA | FORT YUKON LRRS | 01/01 | 12/31 | 171 | 113 | 284 | 10/01/2021
ALASKA | FT. GREELY | 01/01 | 12/31 | 171 | 101 | 272 | 10/01/2021
ALASKA | FT. RICHARDSON | 01/01 | 12/31 | 229 | 125 | 354 | 10/01/2021
ALASKA | FT. WAINWRIGHT | 05/16 | 09/30 | 154 | 100 | 254 | 10/01/2021
ALASKA | FT. WAINWRIGHT | 10/01 | 05/15 | 79 | 100 | 179 | 10/01/2021
ALASKA | GAMBELL | 01/01 | 12/31 | 171 | 113 | 284 | 10/01/2021
ALASKA | GLENNALLEN | 01/01 | 12/31 | 171 | 113 | 284 | 10/01/2021
ALASKA | HAINES | 01/01 | 12/31 | 159 | 113 | 272 | 10/01/2021
ALASKA | HEALY | 05/01 | 10/14 | 164 | 98 | 262 | 10/01/2021
ALASKA | HEALY | 10/15 | 04/30 | 99 | 98 | 197 | 10/01/2021
ALASKA | HOMER | 05/01 | 09/30 | 189 | 124 | 313 | 10/01/2021
ALASKA | HOMER | 10/01 | 04/30 | 129 | 124 | 253 | 10/01/2021
ALASKA | JB ELMENDORF-RICHARDSON | 01/01 | 12/31 | 229 | 125 | 354 | 10/01/2021
ALASKA | JUNEAU | 02/01 | 09/30 | 249 | 118 | 367 | 10/01/2021
ALASKA | JUNEAU | 10/01 | 01/31 | 189 | 118 | 307 | 10/01/2021
ALASKA | KAKTOVIK | 01/01 | 12/31 | 171 | 113 | * 284 | 10/01/2021
ALASKA | KAVIK CAMP | 01/01 | 12/31 | 171 | 113 | * 284 | 10/01/2021
ALASKA | KENAI-SOLDOTNA | 05/01 | 09/30 | 151 | 113 | 264 | 10/01/2021
ALASKA | KENAI-SOLDOTNA | 10/01 | 04/30 | 104 | 113 | 217 | 10/01/2021
ALASKA | KENNICOTT | 01/01 | 12/31 | 171 | 85 | 256 | 10/01/2021
ALASKA | KETCHIKAN | 05/01 | 10/31 | 250 | 118 | 368 | 10/01/2021
ALASKA | KETCHIKAN | 11/01 | 04/30 | 140 | 118 | 258 | 10/01/2021
ALASKA | KING SALMON | 01/01 | 12/31 | 171 | 89 | 264 | 10/01/2021
ALASKA | KING SALMON LRRS | 01/01 | 12/31 | 171 | 113 | 288 | 10/01/2021
ALASKA | KLAWOCK | 05/01 | 09/30 | 139 | 94 | 233 | 10/01/2021
ALASKA | KLAWOCK | 10/01 | 04/30 | 109 | 94 | 203 | 10/01/2021
ALASKA | KODIAK | 05/01 | 09/30 | 207 | 109 | 316 | 10/01/2021
ALASKA | KODIAK | 10/01 | 04/30 | 123 | 109 | 232 | 10/01/2021
ALASKA | KOTZEBUE | 01/01 | 12/31 | 171 | 121 | 296 | 10/01/2021
ALASKA | KULIS AGS | 01/01 | 12/31 | 229 | 125 | 354 | 10/01/2021
ALASKA | MCCARTHY | 01/01 | 12/31 | 171 | 85 | 256 | 10/01/2021
ALASKA | MCGRATH | 01/01 | 12/31 | 171 | 113 | * 284 | 10/01/2021
ALASKA | MURPHY DOME | 05/16 | 09/30 | 154 | 100 | 254 | 10/01/2021
ALASKA | MURPHY DOME | 10/01 | 05/15 | 79 | 100 | 179 | 10/01/2021
ALASKA | NOME | 01/01 | 12/31 | 200 | 118 | 318 | 10/01/2021
ALASKA | NOSC ANCHORAGE | 01/01 | 12/31 | 229 | 125 | 354 | 10/01/2021
ALASKA | NUIQSUT | 01/01 | 12/31 | 171 | 113 | * 284 | 10/01/2021
ALASKA | OLIKTOK LRRS | 01/01 | 12/31 | 171 | 113 | 284 | 10/01/2021
ALASKA | PALMER | 01/01 | 12/31 | 171 | 117 | 288 | 10/01/2021
ALASKA | PETERSBURG | 01/01 | 12/31 | 130 | 108 | 238 | 10/01/2021
ALASKA | POINT BARROW LRRS | 01/01 | 12/31 | 171 | 113 | 284 | 10/01/2021
ALASKA | POINT HOPE | 01/01 | 12/31 | 171 | 113 | * 284 | 10/01/2021
ALASKA | POINT LONELY LRRS | 01/01 | 12/31 | 171 | 113 | 284 | 10/01/2021
ALASKA | PORT ALEXANDER | 01/01 | 12/31 | 171 | 113 | * 284 | 10/01/2021
ALASKA | PORT ALSWORTH | 01/01 | 12/31 | 171 | 113 | 284 | 10/01/2021
ALASKA | PRUDHOE BAY | 01/01 | 12/31 | 171 | 113 | * 284 | 10/01/2021
ALASKA | SELDOVIA | 05/01 | 09/30 | 189 | 124 | 313 | 10/01/2021
ALASKA | SELDOVIA | 10/01 | 04/30 | 129 | 124 | 253 | 10/01/2021
ALASKA | SEWARD | 04/01 | 09/30 | 299 | 146 | 445 | 10/01/2021
ALASKA | SEWARD | 10/01 | 03/31 | 104 | 146 | 250 | 10/01/2021
ALASKA | SITKA-MT. EDGECUMBE | 04/01 | 09/30 | 220 | 116 | 336 | 10/01/2021
ALASKA | SITKA-MT. EDGECUMBE | 10/01 | 03/31 | 189 | 116 | 305 | 10/01/2021
ALASKA | SKAGWAY | 05/01 | 10/31 | 250 | 118 | 368 | 10/01/2021
ALASKA | SKAGWAY | 11/01 | 04/30 | 140 | 118 | 258 | 10/01/2021
ALASKA | SLANA | 01/01 | 12/31 | 171 | 113 | 284 | 10/01/2021
ALASKA | SPARREVOHN LRRS | 01/01 | 12/31 | 171 | 113 | 284 | 10/01/2021
ALASKA | SPRUCE CAPE | 05/01 | 09/30 | 207 | 109 | 316 | 10/01/2021
ALASKA | SPRUCE CAPE | 10/01 | 04/30 | 123 | 109 | 232 | 10/01/2021
ALASKA | ST. GEORGE | 01/01 | 12/31 | 171 | 113 | 284 | 10/01/2021
ALASKA | TALKEETNA | 01/01 | 12/31 | 171 | 120 | 291 | 10/01/2021
ALASKA | TANANA | 01/01 | 12/31 | 200 | 118 | 318 | 10/01/2021
ALASKA | TATALINA LRRS | 01/01 | 12/31 | 171 | 113 | 284 | 10/01/2021
ALASKA | TIN CITY LRRS | 01/01 | 12/31 | 171 | 113 | 284 | 10/01/2021
ALASKA | TOK | 01/01 | 12/31 | 105 | 113 | 218 | 10/01/2021
ALASKA | VALDEZ | 05/01 | 09/15 | 212 | 110 | 322 | 10/01/2021
ALASKA | VALDEZ | 09/16 | 04/30 | 129 | 110 | 239 | 10/01/2021
ALASKA | WAINWRIGHT | 01/01 | 12/31 | 275 | 77 | 352 | 10/01/2021
ALASKA | WASILLA | 06/01 | 10/31 | 171 | 94 | 265 | 10/01/2021
ALASKA | WASILLA | 11/01 | 05/31 | 90 | 94 | 184 | 10/01/2021
ALASKA | WRANGELL | 05/01 | 10/31 | 250 | 118 | 368 | 10/01/2021
ALASKA | WRANGELL | 11/01 | 04/30 | 140 | 118 | 258 | 10/01/2021
ALASKA | YAKUTAT | 06/01 | 10/15 | 350 | 111 | 461 | 10/01/2021
ALASKA | YAKUTAT | 10/16 | 05/31 | 150 | 111 | 261 | 10/01/2021
AMERICAN SAMOA | AMERICAN SAMOA | 01/01 | 12/31 | 139 | 86 | 225 | 07/01/2019
AMERICAN SAMOA | PAGO PAGO | 01/01 | 12/31 | 139 | 86 | 225 | 07/01/2019
GUAM | GUAM (INCL ALL MIL INSTAL) | 01/01 | 12/31 | 159 | 96 | 255 | 04/01/2021
GUAM | JOINT REGION MARIANAS (ANDERSEN) | 01/01 | 12/31 | 159 | 96 | 255 | 04/01/2021
GUAM | JOINT REGION MARIANAS (NAVAL BASE) | 01/01 | 12/31 | 159 | 96 | 255 | 04/01/2021
GUAM | TAMUNING | 01/01 | 12/31 | 159 | 96 | 255 | 04/01/2021
HAWAII | [OTHER] | 01/01 | 12/31 | 218 | 149 | 367 | 01/01/2021
HAWAII | CAMP H M SMITH | 01/06 | 12/16 | 177 | 149 | 326 | 12/17/2021
HAWAII | CAMP H M SMITH | 12/17 | 01/05 | 312 | 149 | 461 | 12/17/2021
HAWAII | CNI NAVMAG PEARL HARBOR- HICKAM | 01/06 | 12/16 | 177 | 149 | 326 | 12/17/2021
HAWAII | CNI NAVMAG PEARL HARBOR- HICKAM | 12/17 | 01/05 | 312 | 149 | 461 | 12/17/2021
HAWAII | FT. DERUSSEY | 01/06 | 12/16 | 177 | 149 | 326 | 12/17/2021
HAWAII | FT. DERUSSEY | 12/17 | 01/05 | 312 | 149 | 461 | 12/17/2021
HAWAII | FT. SHAFTER | 01/06 | 12/16 | 177 | 149 | 326 | 12/17/2021
HAWAII | FT. SHAFTER | 12/17 | 01/05 | 312 | 149 | 461 | 12/17/2021
HAWAII | HICKAM AFB | 01/06 | 12/16 | 177 | 149 | 326 | 12/17/2021
HAWAII | HICKAM AFB | 12/17 | 01/05 | 312 | 149 | 461 | 12/17/2021
HAWAII | HONOLULU | 01/06 | 12/16 | 177 | 149 | 326 | 12/17/2021
HAWAII | HONOLULU | 12/17 | 01/05 | 312 | 149 | 461 | 12/17/2021
HAWAII | ISLE OF HAWAII: HILO | 01/01 | 12/31 | 199 | 120 | 319 | 01/01/2021
HAWAII | ISLE OF HAWAII: LOCATIONS OTHER THAN HILO | 01/01 | 12/31 | 218 | 156 | 374 | 01/01/2021
HAWAII | ISLE OF KAUAI | 01/01 | 12/31 | 325 | 141 | 466 | 01/01/2021
HAWAII | ISLE OF LANAI | 01/01 | 12/31 | 218 | 134 | 352 | 01/01/2021
HAWAII | ISLE OF MAUI | 01/01 | 12/31 | 304 | 150 | 454 | 01/01/2021
HAWAII | ISLE OF MOLOKAI | 01/01 | 12/31 | 218 | 106 | 324 | 01/01/2021
HAWAII | ISLE OF OAHU | 01/06 | 12/16 | 177 | 149 | 326 | 12/17/2021
HAWAII | ISLE OF OAHU | 12/17 | 01/05 | 312 | 149 | 461 | 12/17/2021
HAWAII | JB PEARL HARBOR-HICKAM | 01/06 | 12/16 | 177 | 149 | 326 | 12/17/2021
HAWAII | JB PEARL HARBOR-HICKAM | 12/17 | 01/05 | 312 | 149 | 461 | 12/17/2021
HAWAII | KAPOLEI | 01/06 | 12/16 | 177 | 149 | 326 | 12/17/2021
HAWAII | KAPOLEI | 12/17 | 01/05 | 312 | 149 | 461 | 12/17/2021
HAWAII | KEKAHA PACIFIC MISSILE RANGE FAC | 01/01 | 12/31 | 325 | 141 | 466 | 01/01/2021
HAWAII | KILAUEA MILITARY CAMP | 01/01 | 12/31 | 199 | 120 | 319 | 01/01/2021
HAWAII | LIHUE | 01/01 | 12/31 | 325 | 141 | 466 | 01/01/2021
HAWAII | MCB HAWAII | 01/06 | 12/16 | 177 | 149 | 326 | 12/17/2021
HAWAII | MCB HAWAII | 12/17 | 01/05 | 312 | 149 | 461 | 12/17/2021
HAWAII | NCTAMS PAC WAHIAWA | 01/06 | 12/16 | 177 | 149 | 326 | 12/17/2021
HAWAII | NCTAMS PAC WAHIAWA | 12/17 | 01/05 | 312 | 149 | 461 | 12/17/2021
HAWAII | NOSC PEARL HARBOR | 01/06 | 12/16 | 177 | 149 | 326 | 12/17/2021
HAWAII | NOSC PEARL HARBOR | 12/17 | 01/05 | 312 | 149 | 461 | 12/17/2021
HAWAII | PEARL HARBOR | 01/06 | 12/16 | 177 | 149 | 326 | 12/17/2021
HAWAII | PEARL HARBOR | 12/17 | 01/05 | 312 | 149 | 461 | 12/17/2021
HAWAII | PMRF BARKING SANDS | 01/01 | 12/31 | 325 | 141 | 466 | 01/01/2021
HAWAII | SCHOFIELD BARRACKS | 01/06 | 12/16 | 177 | 149 | 326 | 12/17/2021
HAWAII | SCHOFIELD BARRACKS | 12/17 | 01/05 | 312 | 149 | 461 | 12/17/2021
HAWAII | TRIPLER ARMY MEDICAL CENTER | 01/06 | 12/16 | 177 | 149 | 326 | 12/17/2021
HAWAII | TRIPLER ARMY MEDICAL CENTER | 12/17 | 01/05 | 312 | 149 | 461 | 12/17/2021
HAWAII | WHEELER ARMY AIRFIELD | 01/01 | 12/31 | 177 | 149 | 326 | 01/01/2021
HAWAII | WHEELER ARMY AIRFIELD | 12/17 | 01/05 | 312 | 149 | 461 | 12/17/2021
MIDWAY ISLANDS | MIDWAY ISLANDS | 01/01 | 12/31 | 125 | 81 | 206 | 01/01/2021
NORTHERN MARIANA ISLANDS | [OTHER] | 01/01 | 12/31 | 80 | 113 | 182 | 04/01/2021
NORTHERN MARIANA ISLANDS | ROTA | 01/01 | 12/31 | 130 | 114 | 244 | 04/01/2021
NORTHERN MARIANA ISLANDS | SAIPAN | 01/01 | 12/31 | 161 | 113 | 274 | 04/01/2021
NORTHERN MARIANA ISLANDS | TINIAN | 01/01 | 12/31 | 80 | 93 | 162 | 04/01/2021
PUERTO RICO | [OTHER] | 01/01 | 12/31 | 159 | 100 | 259 | 05/01/2021
PUERTO RICO | AGUADILLA | 01/01 | 12/31 | 149 | 90 | 239 | 05/01/2021
PUERTO RICO | BAYAMON | 12/01 | 05/31 | 195 | 115 | 310 | 05/01/2021
PUERTO RICO | BAYAMON | 06/01 | 11/30 | 167 | 115 | 282 | 05/01/2021
PUERTO RICO | CAROLINA | 12/01 | 05/31 | 195 | 115 | 310 | 05/01/2021
PUERTO RICO | CAROLINA | 06/01 | 11/30 | 167 | 115 | 282 | 05/01/2021
PUERTO RICO | CEIBA | 01/01 | 12/31 | 159 | 110 | 269 | 05/01/2021
PUERTO RICO | CULEBRA | 01/01 | 12/31 | 159 | 105 | 264 | 05/01/2021
PUERTO RICO | FAJARDO [INCL ROOSEVELT RDS NAVSTAT] | 01/01 | 12/31 | 159 | 110 | 269 | 05/01/2021
PUERTO RICO | FT. BUCHANAN [INCL GSA SVC CTR, GUAYNABO] | 12/01 | 05/31 | 195 | 115 | 310 | 05/01/2021
PUERTO RICO | FT. BUCHANAN [INCL GSA SVC CTR, GUAYNABO] | 06/01 | 11/30 | 167 | 115 | 282 | 05/01/2021
PUERTO RICO | HUMACAO | 01/01 | 12/31 | 159 | 110 | 269 | 05/01/2021
PUERTO RICO | LUIS MUNOZ MARIN IAP AGS | 12/01 | 05/31 | 195 | 115 | 310 | 05/01/2021
PUERTO RICO | LUIS MUNOZ MARIN IAP AGS | 06/01 | 11/30 | 167 | 115 | 282 | 05/01/2021
PUERTO RICO | LUQUILLO | 01/01 | 12/31 | 159 | 110 | 269 | 05/01/2021
PUERTO RICO | MAYAGUEZ | 01/01 | 12/31 | 109 | 94 | 203 | 05/01/2021
PUERTO RICO | PONCE | 01/01 | 12/31 | 149 | 130 | 279 | 05/01/2021
PUERTO RICO | RIO GRANDE | 01/01 | 12/31 | 169 | 85 | 254 | 05/01/2021
PUERTO RICO | SABANA SECA [INCL ALL MILITARY] | 12/01 | 05/31 | 195 | 115 | 310 | 05/01/2021
PUERTO RICO | SABANA SECA [INCL ALL MILITARY] | 06/01 | 11/30 | 167 | 115 | 282 | 05/01/2021
PUERTO RICO | SAN JUAN & NAV RES STA | 12/01 | 05/31 | 195 | 115 | 310 | 05/01/2021
PUERTO RICO | SAN JUAN & NAV RES STA | 06/01 | 11/30 | 167 | 115 | 282 | 05/01/2021
PUERTO RICO | VIEQUES | 01/01 | 12/31 | 159 | 94 | 253 | 05/01/2021
VIRGIN ISLANDS (U.S.) | ST. CROIX | 12/15 | 04/14 | 299 | 120 | 419 | 04/01/2021
VIRGIN ISLANDS (U.S.) | ST. CROIX | 04/15 | 12/14 | 247 | 120 | 367 | 04/01/2021
VIRGIN ISLANDS (U.S.) | ST. JOHN | 12/04 | 04/30 | 230 | 123 | 353 | 04/01/2021
VIRGIN ISLANDS (U.S.) | ST. JOHN | 05/01 | 12/03 | 170 | 123 | 293 | 04/01/2021
VIRGIN ISLANDS (U.S.) | ST. THOMAS | 04/15 | 12/15 | 249 | 118 | 367 | 04/01/2021
VIRGIN ISLANDS (U.S.) | ST. THOMAS | 12/16 | 04/14 | 339 | 118 | 457 | 04/01/2021
WAKE ISLAND | WAKE ISLAND | 01/01 | 12/31 | 129 | 70 | 199 | 01/01/2021
* Where meals are included in the lodging rate, a traveler is only allowed a meal rate on the first and last day of travel.

[FR Doc. 2021-27305 Filed 12-16-21; 8:45 am]

BILLING CODE 5001-06-P